DEPARTMENT OF ENERGY

Federal Energy Regulatory Commission

[Docket No. ER98-1055-010, et al.]

Merchant Energy Group of the Americas, Inc., et al.; Electric Rate and Corporate Regulation Filings

April 19, 2000.

Take notice that the following filings have been made with the Commission:

1. Merchant Energy Group of the Americas, Inc.

[Docket No. ER98-1055-010]

Take notice that on April 14, 2000, Merchant Energy Group of the Americas, Inc. (MEGA), tendered for filing a Notification of Change in Status to reflect its new affiliation with a Canadian utility. The change in status will occur upon completion of a transaction whereby TransAlta USA Inc., will acquire 50 percent of the capital stock of MEGA. The filing concludes that this transaction does not alter the characteristics that the Commission relied upon in approving the market-based pricing for MEGA.

Comment date: May 5, 2000, in accordance with Standard Paragraph E at the end of this notice.

2. Potomac Electric Power Company

[Docket No. ER00-2202-000]

Take notice that on April 14, 2000, Potomac Electric Power Company (Pepco), tendered for filing a service agreement pursuant to Pepco FERC Electric Tariff, Original Volume No. 5, entered into between Pepco and Tractebel Energy Marketing, Inc., an effective date of June 28, 1999 for this service agreement, with waiver of notice, is requested.

Comment date: May 5, 2000, in accordance with Standard Paragraph E at the end of this notice.

3. New England Power Pool

[Docket No. ER00-2203-000]

Take notice that on April 14, 2000, the New England Power Pool Participants Committee submitted changes to Market Rule 4 and Request for Expedited Acceptance.

The NEPOOL Participants Committee states that copies of these materials were sent to the New England state governors and regulatory commissions and the Participants in the New England Power Pool.

Comment date: May 5, 2000, in accordance with Standard Paragraph E at the end of this notice.

4. New York State Electric & Gas Corporation

[Docket No. ER00-2204-000]

Take notice that on April 14, 2000, New York State Electric & Gas Corporation (NYSEG), tendered for filing as an initial rate schedule pursuant to Part 35 of the Federal Energy Regulatory Commission's Regulations, 18 CFR Part 35, an Interconnection Agreement (IA) with Canal Emirates Power International, Inc., (Canal).

The IA provides for interconnection service to Canal at the rates, terms, charges, and conditions set forth therein. NYSEG is requesting that the IA becomes effective as of April 3, 2000.

Copies of this filing have been served upon the New York State Public Service Commission and Canal.

Comment date: May 5, 2000, in accordance with Standard Paragraph E at the end of this notice.

5. California Independent System Operator Corporation

[Docket No. ER00-2205-000]

Take notice that on April 14, 2000, the California Independent System Operator Corporation (ISO), tendered for filing a Meter Service Agreement for ISO Metered Entities between the ISO and ARCO CQC Kiln (ARCO) for acceptance by the Commission.

The ISO states that this filing has been served on ARCO and the California Public Utilities Commission.

The ISO is requesting waiver of the 60-day notice requirement to allow the Meter Service Agreement for ISO Metered Entities to be made effective March 17, 2000.

Comment date: May 5, 2000, in accordance with Standard Paragraph E at the end of this notice.

6. California Independent System Operator Corporation

[Docket No. ER00-2206-000]

Take notice that on April 14, 2000, the California Independent System Operator Corporation (ISO), tendered for filing a Participating Generator Agreement between the ISO and ARCO CQC Kiln (ARCO) for acceptance by the Commission.

The ISO states that this filing has been served on ARCO and the California Public Utilities Commission.

The ISO is requesting waiver of the 60-day notice requirement to allow the Participating Generator Agreement to be made effective March 17, 2000.

Comment date: May 5, 2000, in accordance with Standard Paragraph E at the end of this notice.

7. PPL Montana, LLC, PPL Colstrip I, LLC and PPL Colstrip II, LLC

[Docket No. ER00-2207-000]

Take notice that on April 14, 2000, PPL Montana, LLC, PPL Colstrip I, LLC and PPL Colstrip II, LLC tendered for filing a Request for Waiver of FERC Reporting Requirements and for Expedited Consideration.

Comment date: May 5, 2000, in accordance with Standard Paragraph E at the end of this notice.

8. California Independent System Operator Corporation

[Docket No. ER00-2208-000]

Take notice that on April 14, 2000, the California Independent System Operator Corporation (ISO), tendered for filing a proposed amendment (Amendment No. 28) to the ISO Tariff. Amendment No. 28 includes proposed changes to the ISO Tariff that provide for the recovery of costs incurred in contracts executed pursuant to Section 2.3.5.1 of the ISO Tariff, in connection with the implementation of a trial demand participation program for the summer of 2000.

The ISO states that this filing has been served upon the Public Utilities Commission of California, the California Energy Commission, the California Electricity Oversight Board, and all parties with effective Scheduling Coordinator Agreements under the ISO Tariff.

Comment date: May 5, 2000, in accordance with Standard Paragraph E at the end of this notice.

9. Deseret Generation & Transmission Co-operative

[Docket No. ER00-2209-000]

Take notice that on April 14, 2000, Deseret Generation & Transmission Co-operative, Inc. (Deseret), tendered for filing an executed umbrella non-firm point-to-point service agreement and an executed umbrella short term firm point-to-point service agreement with PPL Montana, LLC (PPL Montana) under Deseret's open access transmission tariff.

Deseret requests a waiver of the Commission's notice requirements for an effective date of April 5, 2000. Deseret's open access transmission tariff is currently on file with the Commission in Docket No. OA97-487-000.

PPL Montana has been provided a copy of this filing.

Comment date: May 5, 2000, in accordance with Standard Paragraph E at the end of this notice.

10. Merchant Energy Group of the Americas, Inc.

[Docket No. ER00-2210-000]

Take notice that on April 14, 2000, Merchant Energy Group of the Americas, Inc. (MEGA), tendered for filing an amendment to its FERC Electric Rate Schedule No. 1 to reflect (1) a change in the prohibition on certain affiliate transactions; and (2) other minor editing changes. Accompanying the Rate Schedule, MEGA also submitted a Code of Conduct to govern MEGA's new affiliate relationship with a Canadian utility, TransAlta Utilities Corporation.

Comment date: May 5, 2000, in accordance with Standard Paragraph E at the end of this notice.

11. Great Bay Power Corporation

[Docket No. ER00-2211-000]

Take notice that on April 14, 2000, Great Bay Power Corporation (Great Bay), tendered for filing revisions to its Market-Based Rate Power Sales Tariff and for certain waivers typically granted to market-based rate sellers such as Great Bay. Great Bay's Market-Based Rate Power Sales Tariff is on file with the Commission as Great Bay Power Corporation Tariff No. 2. The version of Great Bay's Market-Based Rate Power Sales Tariff currently on file was accepted for filing by the Commission by letter order dated July 22, 1998, effective as of July 24, 1998, in Docket No. ER98-3470-000.

Great Bay requests an effective date of May 14, 2000, for its revised tariff.

Comment date: May 5, 2000, in accordance with Standard Paragraph E at the end of this notice.

12. Entergy Services, Inc.

[Docket No. ER00-2212-000]

Take notice that on April 14, 2000, Entergy Services, Inc., on behalf of Entergy Arkansas, Inc., Entergy Gulf States, Inc., Entergy Louisiana, Inc., Entergy Mississippi, Inc., and Entergy New Orleans, Inc., tendered for filing compliance generator imbalance agreements, in accordance with the Commission's order in Entergy Services, Inc., 90 FERC ¶ 61,272 (2000).

Comment date: May 5, 2000, in accordance with Standard Paragraph E at the end of this notice.

13. Idaho Power Company

[Docket No. ER00-2213-000]

Take notice that on April 14, 2000, Idaho Power Company (IPC), tendered for filing with the Federal Energy Regulatory Commission a Service Agreement for Firm Point-to-Point Transmission Service between Idaho Power Company and Southern Company Energy Marketing L.P.

Comment date: May 5, 2000, in accordance with Standard Paragraph E at the end of this notice.

14. Delmarva Power & Light Company and Conectiv Delmarva Generation, LLC

[Docket No. EC00-77-000]

Take notice that on April 13, 2000, Delmarva Power & Light Company (Delmarva) and Conectiv Delmarva Generation, LLC (CDG) (collectively, the Applicants) submitted a joint application under Section 203 of the Federal Power Act to request authorization and approval for Delmarva to transfer by assignment to CDG rights in two interconnection agreements related to the Keystone and Conemaugh generating plants and related transmission facilities, which will also be transferred to CDG. The Applicants' proposed closing date for the assignment is June 1, 2000. The Applicants request approval of the assignment during May 2000.

The Applicants have stated that this filing is related to the filing which they made on March 31, 2000 in Docket No. EC00-69-000 for the transfer of Delmarva's ownership interest in the Keystone and Conemaugh generating facilities and appurtenant transmission facilities from Delmarva to CDG. The applicants state that they rely on the filing in Docket No. EC00-69-000 to show that the transfer of the two interconnection agreements is consistent with the public interest.

The Applicants state that copies of this joint application have been served upon Delmarva's wholesale requirements customers, the transmission dependent utilities with whom Delmarva has interconnection agreements, the signatories to the two interconnection agreements and the state regulatory commissions of Delaware, Maryland, Pennsylvania and Virginia and on the PJM Interconnection, LLC.

Comment date: May 15, 2000, in accordance with Standard Paragraph E at the end of this notice.

15. Merchant Energy Group of the Americas, Inc.; Gener S.A. and TransAlta USA Inc.

[Docket No. EC00-78-000]

Take notice that on April 13, 2000, Merchant Energy Group of the Americas, Inc. (MEGA), Gener S.A. (Gener), and TransAlta USA Inc. (TAUSA) tendered for filing a joint application pursuant to Section 203 of the Federal Power Act (FPA) for authorization of a transaction whereby Gener will sell 50 percent of the capital stock in MEGA to TAUSA. MEGA, a wholly-owned subsidiary of Gener, has a nationwide business in electricity, natural gas coal and fuel oil, and is a power marketer subject to the Commission's jurisdiction under Section 201 of the FPA.

Comment date: May 15, 2000, in accordance with Standard Paragraph E at the end of this notice.

16. Duke Energy St. Lucie, LLC

[Docket No. EG00-132-000]

Take notice that on April 17, 2000, Duke Energy St. Lucie, LLC (Duke St. Lucie) filed an application with the Federal Energy Regulatory Commission (the Commission) for determination of exempt wholesale generator status pursuant to Section 32 of the Public Utility Holding Company Act of 1935, as amended, and Part 365 of the Commission's Regulations.

Duke St. Lucie is a Delaware limited liability company that will be engaged directly and exclusively in the business of owning and operating all or part of one or more eligible facilities to be located in St. Lucie County, Florida. The eligible facilities will consist of an approximately 608 MW gas-fired, combined-cycle electric generation plant and related interconnection facilities. The output of the eligible facilities will be sold exclusively at wholesale.

Comment date: May 10, 2000, in accordance with Standard Paragraph E at the end of this notice. The commission will limit its consideration of comments to those that concern the adequacy or accuracy of the application.

17. Midwest Independent Transmission; System Operator, Inc.

[Docket No. ES00-25-000]

Take notice that on April 17, 2000, Midwest Independent Transmission System Operator, Inc. submitted an application under Section 204 of the Federal Power Act seeking Commission authorization to issue notes in an amount not to exceed $200 million.

Comment date: May 2, 2000, in accordance with Standard Paragraph E at the end of this notice.

18. Daniel L. Mineck

[Docket No. ID-3456-001]

Take notice that on April 6, 2000, Daniel L. Mineck (the Applicant) filed an Amendment to his Application for Authority to Hold Interlocking Positions in the above-referenced docket.

Comment date: May 8, 2000, in accordance with Standard Paragraph E at the end of this notice.

Standard Paragraphs

E. Any person desiring to be heard or to protest such filing should file a motion to intervene or protest with the Federal Energy Regulatory Commission, 888 First Street, NE., Washington, DC 20426, in accordance with rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-10328 Filed 4-25-00; 8:45 am]

BILLING CODE 6717-01-P